DEPARTMENT OF TRANSPORTATION

Federal Aviation Administration

14 CFR Part 71

[Docket No. FAA-2005-22421; Airspace Docket No. 05-ASW-1]

RIN 2120-AA66

Revision of Jet Routes J-8, J-18, J-19, J-58, J-76, J-104 and J-244; and VOR Federal Airways V-60, V-190, V-263 and V-611; Las Vegas, NM

AGENCY: Federal Aviation Administration (FAA), DOT.

ACTION: Final rule.

SUMMARY: This action revises Jet Routes J-8, J-18, J-19, J-58, J-76, J-104 and J-244; and Very High Frequency Omni-directional Range (VOR) Federal Airways V-60, V-190, V-263 and V-611 over the Las Vegas, NM, area. The FAA is taking this action due to the renaming of the “Las Vegas VOR tactical air navigation (VORTAC)” to the “Fort Union VORTAC.” The name of the Las Vegas, NM, VORTAC is being changed to enhance the management of aircraft operations over the Las Vegas, NM, area by eliminating the possibility of confusion with the Las Vegas, NV, VORTAC. The FAA is also making editorial changes to update the format of the legal descriptions for VOR Federal Airways V-190, V-263 and V-611.

DATES: Effective Dates: 0901 UTC, December 22, 2005.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

History

To reduce confusion between the Las Vegas, NM, VORTAC and the Las Vegas, NV, VORTAC, a decision was made to change the name of the “Las Vegas, NM, VORTAC” to the “Fort Union, NM, VORTAC.” Because the name of the VORTAC is contained in the legal description of J-8, J-18, J-19, J-58, J-76, J-104 and J-244; and V-60, V-190, V-263 and V-611, the legal descriptions must be changed. The FAA is also making editorial changes to update the format of the legal descriptions for VOR Federal Airways V-190, V-263 and V-611 by eliminating references to mileages and altitudes that are no longer included in the legal descriptions of airways.

Jet Routes and Federal airways are published in paragraphs 2004 and 6010(a), respectively of FAA Order 7400.9N dated September 1, 2005, and effective September 15, 2005, which is incorporated by reference in 14 CFR 71.1. The Jet Routes and Federal airways listed in this document will be published subsequently in the order.

The Rule

This action amends Title 14 Code of Federal Regulations (14 CFR) part 71 by revising the legal descriptions for Jet Routes J-8, J-18, J-19, J-58, J-76, J-104 and J-244; and VOR Federal Airways V-60, V-190, V-263 and V-611 over the Las Vegas, NM, area. The FAA is taking this action due to the renaming of the Las Vegas, NM, VORTAC and to enhance the management of aircraft operations over the Las Vegas, NM, area. Further, the FAA is making editorial changes to update the format of the legal descriptions for VOR Federal Airways V-190, V-263 and V-611. There are no geographical changes to the affected Jet routes and VOR Federal airways. Therefore, notice and public procedure under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034, February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with Paragraph 311(a) of FAA Order 1050.1E, Policies and Procedure for Considering Environmental Impacts. This airspace action is not expected to cause any potentially significant impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 16, 2005, is amended as follows:

Paragraph 2004 Jet Routes.

* * * * *

J-8 (Revised)

From Needles, CA, via Flagstaff, AZ; Gallup, NM; Fort Union, NM; Borger, TX; INT Borger 095° and Kingfisher, OK, 261° radials; Kingfisher; Springfield, MO; St Louis, MO; Louisville, KY; Charleston, WV; INT Charleston 092° and Casanova, VA, 253° radials; to Casanova.

* * * * *

J-18 (Revised)

From Mission Bay, CA, via Imperial, CA; Bard, AZ; INT of the Bard 089° and Gila Bend, AZ, 261° radials; Gila Bend; Phoenix, AZ; St. Johns, AZ; Albuquerque, NM; Fort Union, NM; Garden City, KS; Salina, KS; St. Joseph, MO; to Moline, IL.

* * * * *

J-19 (Revised)

From Phoenix, AZ, via INT Phoenix 053° and Zuni, NM, 242° radials; Zuni; INT Zuni 059° and Fort Union, NM, 268° radials; Fort Union; Liberal, KS; Wichita, KS; Butler, MO; St. Louis, MO; Roberts, IL; to Northbrook, IL.

* * * * *

J-58 (Revised)

From Oakland, CA, via Manteca, CA; Coaldale, NV; Wilson Creek, NV; Milford, UT; Rattlesnake, NM; Fort Union, NM; Panhandle, TX; Wichita Falls, TX; Ranger, TX; Alexandria, LA; Harvey, LA.

* * * * *

J-76 (Revised)

From Las Vegas, NV, via INT Las Vegas 090° and Tuba City, AZ, 268° radials; Tuba City; Fort Union, NM; Tucumcari, NM; to Wichita Falls, TX.

* * * * *

J-104 (Revised)

From Los Angeles, CA, via INT Los Angeles 083° and Twentynine Palms, CA, 269° radials; Twentynine Palms; Parker, CA; INT Parker 112° and Gila Bend, AZ, 312° radials; Gila Bend; Tucson, AZ; San Simon, AZ; Socorro, NM; Fort Union, NM; to Pueblo, CO.

* * * * *

J-244 (Revised)

From Fort Union, NM; Zuni, NM; INT Zuni 242° and Phoenix, AZ, 053° radials; Phoenix.

* * * * *

Paragraph 6010(a)—Domestic VOR Federal Airways

* * * * *

V-60 (Revised)

From Gallup, NM, via INT Gallup 089° and Albuquerque, NM, 303° radials; Albuquerque, via INT Albuquerque 103° and Otto, NM, 253° radials; Otto; to Fort Union, NM.

* * * * *

V-190 (Revised)

From Phoenix, AZ; St. Johns, AZ; Albuquerque, NM; Fort Union, NM, Dalhart, TX; Gage, OK; INT Gate 059° and Pioneer, OK, 280° radials; Pioneer; INT Pioneer 094° and Bartlesville, OK, 256° radials; Bartlesville; INT Bartlesville 075° and Oswego, KS, 233° radials; Oswego; INT Oswego 085° and Springfield, MO, 261° radials; Springfield; Maples, MO; Farmington, MO; Marion, IL; Pocket City, IN.

* * * * *

V-263 (Revised)

From Corona, NM, INT Corona 278° and Albuquerque, NM, 160° radials; Albuquerque; INT Albuquerque 019° and Santa Fe, NM, 268° radials; Santa Fe; Fort Union, NM; Cimarron, NM; Tobe, CO; Lamar, CO; Hugo, CO; INT Hugo 345° and Akron, CO, 232° radials; to Akron. From Pierre, SD; Aberdeen, SD.

* * * * *

V-611 (Revised)

From Newman, TX, via INT Newman 286° and Truth or Consequences, NM, 159° radials; Truth or Consequences; INT Truth or Consequences 028° and Socorro, NM, 189° radials; Socorro; Albuquerque, NM; INT Albuquerque 036° and Santa Fe, NM, 245° radials; Santa Fe; Fort Union, NM; Cimarron, NM; Pueblo, CO; Black Forest, CO; INT Black Forest 036° and Gill, CO, 149° radials; Gill; Cheyenne, WY; Muddy Mountain, WY; Crazy Woman, WY; Sheridan, WY; Billings, MT; INT Billings 347° and Lewistown, MT, 104° radials; Lewistown; INT Lewistown 322° and Havre, MT, 226° radials; to Havre.

* * * * *

Issued in Washington, DC, on October 11, 2005.
Edith V. Parish,
Acting Manager, Airspace and Rules.

[FR Doc. 05-20852 Filed 10-17-05; 8:45 am]

BILLING CODE 4910-13-P